DEPARTMENT OF TRANSPORTATION

Federal Aviation Administration

14 CFR Part 97

[Docket No. 30391 ; Amdt. No. 3078]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: This rule is effective October 3, 2003. The compliance date for each SIAP is specified in the amendatory provisions.

The incorporation by reference of certain publications listed in the regulations is approved by the Director of the Federal Register as of October 3, 2003.

ADDRESSES: Availability of matter incorporated by reference in the amendment is as follows:

For Examination—

1. FAA Rules Docket, FAA Headquarters Building, 800 Independence Avenue, SW., Washington, DC 20591;

2. The FAA Regional Office of the region in which affected airport is located; or

3. The Flight Inspection Area Office which originated the SIAP.

4. The Office of the Federal Register, 800 North Capitol Street, NW., Suite 700, Washington, DC.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and section 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timeliness of change considerations, this amendment incorporates only specific changes contained in the content of the following FDC/P NOTAMs for each SIAP. The SIAP information in some previously designated FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (Air).

Issued in Washington, DC, on September 26, 2003.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS/DME, MLS/RNAV; § 97.31 RADAR SIAPs; § 97.33 RNAV SIAPs; and § 97.35 COPTER SIAPs, Identified as follows:

* * * Effective Upon Publication

FDC DATE | STATE | CITY | AIRPORT | FDC NUMBER | SUBJECT
09/03/03 | AR | HUNTSVILLE | HUNTSVILLE MUNI | 3/8267 | VOR/DME OR GPS RWY 12, AMDT 1.
09/03/03 | AR | RUSSELLVILLE | RUSSELLVILLE REGIONAL | 3/8269 | GPS RWY 25, ORIG-A.
09/03/03 | AR | SILOAM SPRINGS | SMITH FIELD | 3/8270 | VOR OR GPS-A, AMDT 8A.
09/03/03 | AR | JONESBORO | JONESBORO MUNI | 3/8271 | VOR OR GPS RWY 23, AMDT 9A.
09/03/03 | AR | FAYETTEVILLE | DRAKE FIELD | 3/8272 | VOR OR GPS-A, AMDT 24A.
09/03/03 | AR | OZARK | OZARK-FRANKLIN COUNTY | 3/8273 | VOR/DME OR GPS-A, AMDT 3.
09/03/03 | AR | FORT SMITH | FORT SMITH REGIONAL | 3/8275 | RNAV (GPS) RWY 1, ORIG.
09/03/03 | AR | FORT SMITH | FORT SMITH REGIONAL | 3/8278 | NDB RWY 7, AMDT 8A.
09/03/03 | AR | FORT SMITH | FORT SMITH REGIONAL | 3/8276 | NDB RWY 25, AMDT 24C.
09/03/03 | AR | FORT SMITH | FORT SMITH REGIONAL | 3/8279 | VOR OR TACAN RWY 25, AMDT 20E.
09/03/03 | AR | FORT SMITH | FORT SMITH REGIONAL | 3/8280 | VOR/DME OR TACAN RWY 7, AMDT 11.
09/03/03 | AR | FORT SMITH | FORT SMITH REGIONAL | 3/8281 | RNAV (GPS) RWY 25, ORIG.
09/03/03 | AR | FORT SMITH | FORT SMITH REGIONAL | 3/8282 | RNAV (GPS) RWY 7, ORIG.
09/03/03 | AR | FORT SMITH | FORT SMITH REGIONAL | 3/8283 | ILS RWY 25, AMDT 21.
09/03/03 | AR | FORT SMITH | FORT SMITH REGIONAL | 3/8284 | ILS RWY 7, ORIG.
09/03/03 | AR | FORT SMITH | FORT SMITH REGIONAL | 3/8285 | RADAR-1, AMDT 8.
09/03/03 | TX | COLLEGE STATION | EASTERWOOD FIELD | 3/8460 | VOR/DME RWY 28, AMDT 12B.
09/03/03 | TX | BEAUMONT-PORT ARTHUR | SOUTHEAST TEXAS REGIONAL | 3/8462 | ILS RWY 12, AMDT 22.
09/03/03 | TX | BEAUMONT-PORT ARTHUR | SOUTHEAST TEXAS REGIONAL | 3/8463 | VOR RWY 12, AMDT 9.
09/03/03 | TX | BEAUMONT-PORT ARTHUR | SOUTHEAST TEXAS REGIONAL | 3/8464 | GPS RWY 12, ORIG.
09/03/03 | TX | BEAUMONT-PORT ARTHUR | SOUTHEAST TEXAS REGIONAL | 3/8467 | VOR-B, AMDT 6.
09/24/03 | TX | HOUSTON | ELLINGTON FIELD | 3/9363 | RNAV (GPS) RWY 35L, ORIG.
09/04/03 | TX | AUSTIN | LAKEWAY AIRPARK | 3/8594 | GPS RWY 16, ORIG-A.
09/04/03 | TX | AUSTIN | LAKEWAY AIRPARK | 3/8595 | VOR/DME-A, ORIG-A.
09/04/03 | TX | CROCKETT | CROCKETT/HOUSTON COUNTY | 3/8606 | GPS RWY 20, ORIG.
09/04/03 | TX | CROCKETT | CROCKETT/HOUSTON COUNTY | 3/8607 | GPS RWY 2, ORIG.
09/04/03 | TX | LUBBOCK | LUBBOCK INTL | 3/8653 | ILS RWY 26, AMDT 2.
09/04/03 | TX | LUBBOCK | LUBBOCK INTL | 3/8654 | NDB RWY 26, AMDT 2A.
09/04/03 | TX | LUBBOCK | LUBBOCK INTL | 3/8657 | VOR-A, AMDT 6.
09/04/03 | TX | LUBBOCK | LUBBOCK INTL | 3/8661 | VOR/DME OR TACAN RWY 26, AMDT 10C.
09/16/03 | TX | LUBBOCK | LUBBOCK INTL | 3/9105 | ILS RWY 17R, AMDT 16.
09/06/03 | DE | GEORGETOWN | SUSSEX COUNTY | 3/8699 | VOR RWY 22, AMDT 6.
09/06/03 | DE | GEORGETOWN | SUSSEX COUNTY | 3/8698 | VOR RWY 4, AMDT 5.
09/06/03 | DE | GEORGETOWN | SUSSEX COUNTY | 3/8697 | RNAV (GPS) RWY 22, ORIG-B.
09/06/03 | DE | GEORGETOWN | SUSSEX COUNTY | 3/8696 | RNAV (GPS) RWY 4, ORIG-B.
09/06/03 | DC | WASHINGTON | WASHINGTON DULLES INTL | 3/8521 | ILS RWY 1R AMDT 22, ILS RWY 1R(CAT II), AMDT 22, ILS RWY 1R(CAT III), AMDT 22.
09/06/03 | DC | WASHINGTON | RONALD REAGAN WASHINGTON NATIONAL | 3/8517 | COPTER ILS 007 ORIG.
09/08/03 | DC | WASHINGTON | RONALD REAGAN WASHINGTON NATIONAL | 3/8513 | VOR/DME OR GPS RWY 19, AMDT 9.
09/08/03 | MD | INDIAN HEAD | MARYLAND | 3/8693 | VOR-A, ORIG-A.
09/06/03 | MD | INDIAN HEAD | MARYLAND | 3/8692 | RNAV (GPS) RWY 36, ORIG.
09/06/03 | PA | PITTSBURGH | PITTSBURGH INTL | 3/8453 | RNAV (GPS) RWY 10C, AMDT 2.
09/08/03 | VA | TANGIER | TANGIER ISLAND | 3/8516 | VOR/DME OR GPS RWY 2, ORIG-B.
09/08/03 | WV | PINEVILLE | KEE FIELD | 3/8695 | GPS RWY 26, ORIG-A.
09/06/03 | WV | PINEVILLE | KEE FIELD | 3/8694 | GPS RWY 8, ORIG-A.
09/04/03 | GA | ELBERTON | ELBERT CO-PATZ FIELD | 3/8354 | VOR/DME OR GPS RWY 10, AMDT 2C; CORRECTION TO TL03-21.
09/12/03 | AK | BETHEL | BETHEL | 3/8912 | VOR/DME-B, ORIG.
09/12/03 | AK | BETHEL | BETHEL | 3/8913 | VOR RWY 18, AMDT 8B.
09/11/03 | TX | HOUSTON | ELLINGTON FIELD | 3/8976 | RNAV (GPS) RWY 4, ORIG-A.
09/15/03 | AK | BETHEL | BETHEL | 3/9073 | VOR/DME RWY 18, AMDT 1.
09/17/03 | MA | HYANNIS | BARNSTABLE MUNI-BOARDMAN/POLANDO FIELD | 3/9125 REPLACES 3/8768 | VOR OR GPS RWY 6, AMDT 7C.
09/17/03 | TX | LOCKHART | LOCKHART MUNI | 3/9122 | GPS RWY 36, ORIG-B.
09/11/03 | CO | FORT COLLINS (LOVELAND) | FORT COLLINS-LOVELAND MUNI | 3/8900 | NDB RWY 33, AMDT 4A.
09/11/03 | CO | FORT COLLINS (LOVELAND) | FORT COLLINS-LOVELAND MUNI | 3/8901 | ILS RWY 33, AMDT 5B.
09/11/03 | PA | PITTSBURGH | PITTSBURGH INTL | 3/8948 | RNAV (GPS) Z RWY 28L, AMDT 2.
09/15/03 | NY | ITHACA | ITHACA TOMPKINS REGIONAL | 3/9037 | ILS RWY 32, AMDT 5.
09/18/03 | PA | PHILADELPHIA | PHILADELPHIA | 3/9160 | NDB RWY 27L, AMDT 5B.

[FR Doc. 03-25054 Filed 10-2-03; 8:45 am]

BILLING CODE 4910-13-P